DEPARTMENT OF COMMERCE

International Trade Administration

[A-533-871]

Finished Carbon Steel Flanges From India: Final Results of Antidumping Duty Administrative Review; 2020-2021; Correction

AGENCY: Enforcement and Compliance, International Trade Administration, Department of Commerce.

ACTION: Notice; correction.

SUMMARY: On March 14, 2023, the U.S. Department of Commerce (Commerce) published the Federal Register notice of the final results of the administrative review of the antidumping duty order on finished carbon steel flanges from India covering the period August 1, 2020, through July 31, 2021. That notice incorrectly identified the name of one company in the final results of the review rate table.

FOR FURTHER INFORMATION CONTACT: Fred Baker or Preston Cox, AD/CVD Operations, Office VI, Enforcement and Compliance, International Trade Administration, U.S. Department of Commerce, 1401 Constitution Avenue NW, Washington, DC 20230; telephone: (202) 482-2924 or (202) 482-5041, respectively.

SUPPLEMENTARY INFORMATION:

Correction

In the Federal Register of March 14, 2023, in FR Doc. 2023-05149, on page 15669, in the Producer/exporter and weighted-average dumping margin (percent) table, make the following correction:

• In the second row of the “Producer/Exporter” column in the chart, revise the second-listed company name, “USK Export Private Limited” to “USK Exports Private Limited.”

Background

On March 14, 2023, Commerce published in the Federal Register the final results of the administrative review of the antidumping duty order on finished carbon steel flanges from India covering the period August 1, 2020, through July 31, 2021.¹ In the weighted-average dumping margin table, Commerce inadvertently misidentified USK Exports Private Limited as USK Export Private Limited (i.e., it used the singular form “Export,” rather than the plural form “Exports”). This same mistake appeared in its Preliminary Results.² The corrected Producer/exporter and weighted-average dumping margin (percent) table is as follows:

¹ See Finished Carbon Steel Flanges from India: Final Results of Antidumping Duty Administrative Review; 2020-2021, 88 FR 15668 (March 14, 2023).

² See Finished Carbon Steel Flanges from India: Preliminary Results of Antidumping Duty Administrative Review; 2020-2021, 87 FR 54957 (September 8, 2022) (Preliminary Results).

Producer/exporter | Weighted -average dumping margin (percent)
R.N. Gupta & Co. Ltd | 0.73
Norma (India) Limited/USK Exports Private Limited/Uma Shanker Khandelwal & Co./Bansidhar Chiranjilal | 1.00
Non-Selected Companies | 0.84

Notification to Interested Parties

This notice is issued and published in accordance with sections 751(a)(1), 751(a)(2)(B), and 777(i)(1) of the Tariff Act of 1930 as amended, and 19 CFR 351.221(b)(5).

Dated: March 27, 2023.
Lisa W. Wang,
Assistant Secretary for Enforcement and Compliance.

[FR Doc. 2023-06703 Filed 4-3-23; 8:45 am]

BILLING CODE 3510-DS-P